OFFICE OF THE UNITED STATES TRADE REPRESENTATIVE

[Docket Number USTR-2025-0010]

Cancellation of Public Hearing Concerning Russia's Implementation of Its WTO Commitments

AGENCY: Office of the United States Trade Representative (USTR).

ACTION: Notice; cancellation of public hearing.

SUMMARY: USTR sought public comments to assist in the preparation of its annual report to Congress on Russia's implementation of its obligations as a Member of the World Trade Organization (WTO). Because USTR received no requests to testify, USTR is canceling the public hearing that was scheduled to take place on October 15, 2025.

DATES: The public hearing scheduled for October 15, 2025 is cancelled.

FOR FURTHER INFORMATION CONTACT: Silvia Savich, Deputy Assistant U.S. Trade Representative for Russia and Eurasia at Silvia.Savich@ustr.eop.gov or 202.395.2256.

SUPPLEMENTARY INFORMATION: On August 12, 2025, USTR sought public comments to assist in the preparation of its annual report to Congress on Russia's implementation of its obligations as a Member of the WTO. See 90 FR 38877 (Aug 12, 2025). The notice included an October 1, 2025 deadline for the submission of written comments and requests to testify at a public hearing that was scheduled to take place on October 15, 2025. In response to the notice, USTR received five submissions and no requests to testify. Therefore, USTR is canceling the October 15, 2025 public hearing.

Edward Marcus,
Chair of the Trade Policy Staff Committee, Office of the United States Trade Representative.

[FR Doc. 2025-19539 Filed 10-14-25; 8:45 am]

BILLING CODE 3390-F4-P